DEPARTMENT OF ENERGY

Federal Energy Regulatory Commission

Combined Notice of Filings

Take notice that the Commission has received the following Natural Gas Pipeline Rate and Refund Report filings:

Docket Number: PR21-34-001.

Applicants: Enable Oklahoma Intrastate Transmission, LLC.

Description: Tariff filing per 284.123(b),(e)+(g): EOIT 2021 Revised Petition for Section 311 Rate Approval (PR21-34) to be effective 7/1/2021.

Filed Date: 5/27/2021.

Accession Number: 202105275223.

Comments Due: 5 p.m. ET 6/10/2021.

284.123(g) Protests Due: 5 p.m. ET 6/10/2021.

Docket Numbers: RP21-844-000.

Applicants: Kinder Morgan Louisiana Pipeline LLC.

Description: § 4(d) Rate Filing: Periodic Rate Adjustment_21 to be effective 7/1/2021.

Filed Date: 5/27/21.

Accession Number: 20210527-5029.

Comments Due: 5 p.m. ET 6/8/21.

Docket Numbers: RP21-845-000.

Applicants: El Paso Natural Gas Company, L.L.C.

Description: § 4(d) Rate Filing: Negotiated Rate Agreement (Ameredev) to be effective 7/1/2021.

Filed Date: 5/27/21.

Accession Number: 20210527-5091.

Comments Due: 5 p.m. ET 6/8/21.

Docket Numbers: RP21-846-000.

Applicants: Natural Gas Pipeline Company of America.

Description: § 4(d) Rate Filing: Negotiated Rate Agreements Filing—Elgin Energy Center LLC to be effective 6/1/2021.

Filed Date: 5/27/21.

Accession Number: 20210527-5144.

Comments Due: 5 p.m. ET 6/8/21.

Docket Numbers: RP21-847-000.

Applicants: Colorado Interstate Gas Company, L.L.C.

Description: § 4(d) Rate Filing: Quarterly LUF True-Up to be effective 7/1/2021.

Filed Date: 5/27/21.

Accession Number: 20210527-5145.

Comments Due: 5 p.m. ET 6/8/21.

Docket Numbers: RP21-848-000.

Applicants: TransColorado Gas Transmission Company LLC.

Description: § 4(d) Rate Filing: Quarterly Fuel Gas Reimbursement Update Filing to be effective 7/1/2021.

Filed Date: 5/27/21.

Accession Number: 20210527-5148.

Comments Due: 5 p.m. ET 6/8/21.

Docket Numbers: RP21-849-000.

Applicants: Columbia Gas Transmission, LLC.

Description: § 4(d) Rate Filing: June 21 Neg Rate Amendment to be effective 6/1/2021.

Filed Date: 5/27/21.

Accession Number: 20210527-5197.

Comments Due: 5 p.m. ET 6/8/21.

Docket Numbers: RP21-850-000.

Applicants: Southwest Gas Storage Company.

Description: § 4(d) Rate Filing: Implement Market Based Rates West Area to be effective 7/1/2021.

Filed Date: 5/27/21.

Accession Number: 20210527-5214.

Comments Due: 5 p.m. ET 6/8/21.

Docket Numbers: RP21-851-000.

Applicants: Dauphin Island Gathering Partners.

Description: § 4(d) Rate Filing: Negotiated Rate Filing 5-27-2021 to be effective 6/1/2021.

Filed Date: 5/27/21.

Accession Number: 20210527-5237.

Comments Due: 5 p.m. ET 6/8/21.

Docket Numbers: RP21-852-000.

Applicants: CenterPoint Energy Resources Corp., Summit Utilities Arkansas, Inc.

Description: Joint Petition for Limited Waiver of Capacity Release Regulations, et al. of CenterPoint Energy Resources Corp. and Summit Utilities Arkansas, Inc. under RP21-852.

Filed Date: 5/27/21.

Accession Number: 20210527-5326.

Comments Due: 5 p.m. ET 6/8/21.

Docket Numbers: RP21-853-000.

Applicants: CenterPoint Energy Resources Corp., Summit Utilities Oklahoma, Inc.

Description: Joint Petition for Limited Waiver of Capacity Release Regulations, et al. of CenterPoint Energy Resources Corp. and Summit Utilities Oklahoma, Inc. under RP21-853.

Filed Date: 5/27/21.

Accession Number: 20210527-5327.

Comments Due: 5 p.m. ET 6/8/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 28, 2021.
Debbie-Anne A. Reese,
Deputy Secretary.

[FR Doc. 2021-11747 Filed 6-3-21; 8:45 am]

BILLING CODE 6717-01-P